DEPARTMENT OF TRANSPORTATION

Federal Transit Administration

[FTA Docket Number: FTA-2005-22658]

Notice of Policy Statement for Implementation of Notice and Comment Procedures for Documents Imposing “Binding Obligations”

AGENCY: Federal Transit Administration, DOT.

ACTION: Notice.

SUMMARY: This notice establishes the Federal Transit Administration's (FTA, we) policy concerning notice and comment for FTA documents that impose binding obligations. This new policy is consistent with recent amendments to FTA's administrative procedures statute and provides the public and opportunity to comment on documents that FTA issues routinely.

DATES: Comments must be received by December 21, 2005. Late filed comments will be considered to the extent practicable. FTA will publish a second notice in the Federal Register summarizing all comments received regarding this notice, and, if appropriate, may modify this policy statement.

ADDRESSES: You may submit comments [identified by DOT DMS Docket Number FTA-2005-22658] by any of the following methods:

Web site: http://dms.dot.gov. Follow the instructions for submitting comments on the DOT electronic docket site.

Fax: 202-493-2251.

Mail: Docket Management Facility; U.S. Department of Transportation, 400 Seventh Street, SW., Nassif Building, PL-401, Washington, DC 20590-0001.

Hand Delivery: Room PL-401 on the plaza level of the Nassif Building, 400 Seventh Street, SW., Washington, DC, between 9 a.m. and 5 p.m., Monday through Friday, except Federal holidays.

Instructions: You must include the agency name (Federal Transit Administration) and the docket number (FTA-2005-22428). You should submit two copies of your comments if you submit them by mail. If you wish to receive confirmation that FTA received your comments, you must include a self-addressed stamped postcard. Note that all comments received will be posted without change to the Department's Docket Management System (DMS) Web site located at http://dms.dot.gov. This means that is your comments includes any personal identifying information, such information will be made available to users of DMS.

FOR FURTHER INFORMATION CONTACT: Linda Lasley, Assistant Chief Counsel, Legislation and Regulations Division, Office of the Chief Counsel, Federal Transit Administration, 400 Seventh Street, SW., Room 9316, Washington, DC., 20590, (202) 366-4011 or Linda.Lasley@dot.gov

SUPPLEMENTARY INFORMATION:

1. Background

On August 10, 2005, President Bush signed into law the Safe, Accountable, Flexible, Efficient Transportation Equity Act of 2005—a Legacy for Users (SAFETEA-LU), which reauthorizes Federal transit, highway, and highway safety programs through September 30, 2009. That Act amends FTA's administrative procedures contained in 49 U.S.C. 5334. The amendment specifically states: “The Administrator of the Federal Transit Administration shall follow applicable rulemaking procedures under section 553 of title 5 before the Federal Transit Administration issues a statement that imposes a binding obligation on recipients of Federal assistance under this chapter.” The amendment also defines a “binding obligation” as: “a substantive policy statement, rule, or guidance document issued by the Federal Transit Administration that grants rights, imposes obligations, produces significant effects on private interests, or effects a significant change in existing policy.” In accordance with the above requirement, FTA announces in this notice our policy with respect to documents that impose biding obligations.

A. Rulemaking

When FTA promulgates a “legislative” or legally binding rule, we will provide notice and an opportunity to comment as required by the Administrative Procedure Act (APA) and we will publish in the Federal Register. Rules that are designated as significant will be reviewed prior to publication in the Federal Register by the Office of the Secretary of Transportation and the Office of Management and Budget in accordance with Department of Transportation (DOT) policies and procedures and Executive Order 12866. In addition, when Congress authorizes FTA to establish a new program, we may issue a rule setting out the basic criteria for the new program.

Circulars, Guidance, and Policy Documents

We issue circulars, guidance documents or interpretations, and policy statements in connection with the administration of our grant programs. In certain instances, such documents grant rights to or impose obligations on grant recipients, produce significant effects on private interests or effect a significant change in existing policy. Before adopting such documents, we will provide notice and an opportunity for the public to comment. We will accomplish this by establishing a docket in the Department's Docket Management System and posting the entire document in the docket. We will then publish a notice in the Federal Register announcing the document's availability and the time period for providing public comment.

B. Other Information

Besides rules, circulars, policies, and guidance documents, FTA will often distribute material to assist grant recipients regarding specific topics. These documents have not and will not impose binding obligations on the public, and, therefore, will not be subject to the procedures for notice and comment set forth in section 5334(1) of Title 49. These documents will continue to be available on FTA's public Web site at http://fta.dot.gov.

Issued in Washington, DC, this 14th day of November 2005.
David B. Horner,
Acting Deputy Administrator.

[FR Doc. 05-22950 Filed 11-18-05; 8:45 am]

BILLING CODE 4910-57-M